DEPARTMENT OF HEALTH AND HUMAN SERVICES

National Institutes of Health

National Institute of Diabetes and Digestive and Kidney Diseases Diabetes Mellitus Interagency Coordinating Committee; Notice of Meeting

The Diabetes Mellitus Interagency Coordinating Committee (DMICC) will hold a meeting on March 11, 2011, from 8:30 a.m. to 3:45 p.m. at the Bethesda Marriott Suites, 6711 Democracy Blvd., Bethesda, MD 20817. The meeting will be open to the public from 8:30 a.m. until 2 p.m.; the DMICC will meet in closed session from 2:10 p.m. until 3:45 p.m. Attendance is limited to space available. Non-Federal individuals planning to attend the meeting should notify the Contact Person listed on this notice at least 2 days prior to the meeting. Individuals who plan to attend and need special assistance, such as sign language interpretation or other reasonable accommodations, should inform the Contact Person listed below at least 10 days in advance of the meeting.

The DMICC facilitates cooperation, communication, and collaboration on diabetes among government entities. DMICC meetings, held several times a year, provide an opportunity for members to learn about and discuss current and future diabetes programs in DMICC member organizations and to identify opportunities for collaboration. The March 11, 2011, DMICC meeting will discuss “Diabetes: A1c/Questions/Diagnosis.”

Any member of the public interested in presenting oral comments to the Committee should notify the Contact Person listed on this notice at least 10 days in advance of the meeting. Interested individuals and representatives or organizations should submit a letter of intent, a brief description of the organization represented, and a written copy of their oral presentation in advance of the meeting. Only one representative of an organization will be allowed to present oral comments and presentations will be limited to a maximum of five minutes. Both printed and electronic copies are requested for the record. In addition, any interested person may file written comments with the Committee by forwarding their statement to the Contact Person listed on this notice. The statement should include the name, address, telephone number and when applicable, the business or professional affiliation of the interested person. Because of time constraints for the meeting, oral comments will be allowed on a first come, first serve basis.

A registration link and information about the DMICC meeting will be available on the DMICC Web site: http://www.diabetescommittee.gov. Members of the public who would like to receive e-mail notification about future DMICC meetings could register on a listserv available on the same Web site.

For further information concerning this meeting contact Dr. Sanford Garfield, Executive Secretary of the Diabetes Mellitus Interagency Coordinating Committee, National Institute of Diabetes and Digestive and Kidney Diseases, 6707 Democracy Boulevard, Room 654, MSC 5460, Bethesda, MD 20892-5460, Telephone: 301-594-8803 FAX: 301-402-6271, E-mail: dmicc@mail.nih.gov.

Dated: February 14, 2011.
Sanford Garfield,
Executive Secretary, DMICC, Division of Diabetes, Endocrinology and Metabolic Diseases, NIDDK, National Institutes of Health.

[FR Doc. 2011-3765 Filed 2-17-11; 8:45 am]

BILLING CODE 4140-01-P